DEPARTMENT OF LABOR

Employment and Training Administration

[TA-W-40,834]

Levolor Kirsch Window Fashions, Levolor Home Fashions, Westminster, CA; Amended Certification Regarding Eligibility To Apply for Worker Adjustment Assistance

In accordance with section 223 of the Trade Act of 1974 (19 U.S.C. 2273) the Department of Labor issued a Certification of Eligibility to Apply for Worker Adjustment Assistance on April 8, 2002, applicable to workers of Levolor Kirsch Window Fashions, Wood and Faux Wood Custom Window Coverings Department, Westminster, California. The notice was published in the Federal Register on April 24, 2002 (67 FR 20166). The certification was amended on July 15, 2003 to show that workers wages were paid under the unemployment insurance (U.I.) tax account for Levolor Home Fashions. The notice was published in the Federal Register on July 24, 2002 (67 FR 48486).

At the request of the State agency, the Department reviewed the certification for workers of the subject firm. Findings show that the Department limited its certification coverage to the Wood and Faux Wood Customer Window Coverings Department who were engaged in the production of wood and faux wood window coverings at the subject firm.

Company information shows that the Westminster, California plant has closed down completely and has shifted production of wood and faux wood window coverings to Mexico.

It is the intent of the Department to include “all workers” of Levolor Kirsch Window Fashions, Levolor Home Fashions who were adversely affected by increased imports.

The amended notice applicable to TA-W-40,834 is hereby issued as follows:

All workers of Levolor Kirsch Window Fashions, Levolor Home Fashions, Westminster, California, who became totally or partially separated from employment on or after January 28, 2001 through April 8, 2004, are eligible to apply for adjustment assistance under section 223 of the Trade Act of 1974.

Signed at Washington, DC, this 4th day of November, 2003.
Linda G. Poole,
Certifying Officer, Division of Trade Adjustment Assistance.

[FR Doc. 03-29536 Filed 11-25-03; 8:45 am]

BILLING CODE 4510-30-P